DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

Applicant: San Diego Zoo, San Diego, California, PRT-049659.

The applicant request a permit to export four captive born Blyth's tragopans (Tragopan blythii) to The City of Belfast Zoological Gardens (Belfast Zoo), Northern Ireland for the purpose of enhancement of the survival of the species through propagation.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: November 23, 2001.
Anna Barry,
Senior Permit Biologist, Branch of Permits, Office of Management Authority.

[FR Doc. 01-29851 Filed 11-30-01; 8:45 am]

BILLING CODE 4310-55-P